DEPARTMENT OF HEALTH AND HUMAN SERVICES

National Institutes of Health

National Institute of Arthritis and Musculoskeletal and Skin Diseases; Notice to Close Meeting

Pursuant to section 10(d) of the Federal Advisory Committee Act, as amended, notice is hereby given of the following meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Arthritis and Musculoskeletal and Skin Diseases Special Emphasis Panel; NIAMS Loan Repayment Review.

Date: April 13, 2018.

Time: 8:00 a.m. to 5:00 p.m.

Agenda: To review and evaluate contract proposals.

Place: National Institute of Health/NIAMS, 6701 Democracy Boulevard, Bethesda, MD 20892.

Contact Person: Kan Ma, Ph.D., Scientific Review Officer, National Institute Arthritis, Musculoskeletal, and Skin Diseases, NIH, 6701 Democracy Blvd., Suite 814, Bethesda, MD 20892, (301) 451-4838, mak2@mail.nih.gov.

(Catalogue of Federal Domestic Assistance Program Nos. 93.846, Arthritis and Musculoskeletal and Skin Diseases Research, National Institutes of Health, HHS)

Dated: March 20, 2018.
Sylvia L. Neal,
Program Analyst, Office of Federal Advisory Committee Policy.

[FR Doc. 2018-05991 Filed 3-23-18; 8:45 am]

BILLING CODE 4140-01-P